SMALL BUSINESS ADMINISTRATION

13 CFR Part 121

RIN 3245-AG07

Small Business Size Standards: Professional, Scientific and Technical Services.

AGENCY: U.S. Small Business Administration.

ACTION: Proposed rule; notice of extension of comment period.

SUMMARY: On March 16, 2011, the U.S. Small Business Administration (SBA or Agency) proposed to increase small business size standards for 35 industries and one sub-industry in North American Industry Classification System (NAICS) Sector 54, Professional, Scientific and Technical Services and one industry in NAICS Sector 81, Other Services. SBA provided a 60-day comment period ending on May 16, 2011. In this notice, SBA is extending the comment period an additional 30 days to June 15, 2011.

DATES: The comment period for the proposed rule published on March 16, 2011, at 76 FR 14323, is extended through June 15, 2011.

ADDRESSES: You may submit comments, identified by RIN 3245-AG07 by one of the following methods:

(1) Federal eRulemaking Portal: http://www.regulations.gov. Follow the instructions for submitting comments; or

(2) Mail/Hand Delivery/Courier: Khem R. Sharma, PhD, Chief, Size Standards Division, 409 Third Street, SW., Mail Code 6530, Washington, DC 20416.

FOR FURTHER INFORMATION CONTACT: The SBA's Office of Size Standards at (202) 205-6618 or sizestandards@sba.gov.

SUPPLEMENTARY INFORMATION: In the proposed rule (76 FR 14323), SBA sought public comment on whether the proposed increases to size standards are appropriate given the economic characteristics of industries. Based on its analysis of industry and Federal procurement data and the use of a common size standard, for some industries SBA proposed to increase the size standards by more than three times their current levels (e.g., Engineering, Architectural and Related Services), while for some other industries proposed increases are more modest (e.g., Computer System Designs and Related Services). SBA also sought public feedback on a number of policy issues regarding its size standards methodology, such as whether SBA's proposal to apply eight fixed size standards levels is appropriate to simplify size standards and whether SBA should adopt a common size standards for related industries although the analysis might support a different size standard for each industry.

As of May 9, 2011, SBA has received over 210 comments to the proposed rule which are posted on http://www.regulations.gov. Some comments support SBA's proposed increases, some feel that proposed increases are too large, and others believe that proposed increases are too small. Given the impact the proposed changes might have on affected businesses and the lack of consensus in the comments received to date, SBA believes that the Agency and the affected industries will benefit from more public input before it finalizes any changes. Therefore, SBA is extending the comment period to June 15, 2011. This will also give more time to affected businesses and interested parties to review the proposed changes and prepare accurate, constructive and convincing comments to the proposed rule.

Dated: May 9, 2011.
Joseph Jordan,
Associate Administrator for Government Contracting and Business Development.

[FR Doc. 2011-11707 Filed 5-12-11; 8:45 am]

BILLING CODE 8025-01-P